ENVIRONMENTAL PROTECTION AGENCY

[EPA-HQ-OPP-2017-0751; FRL-12088-01-OCSPP]

Pesticide Registration Review; Decisions and Case Closures for Several Pesticides; Notice of Availability

AGENCY: Environmental Protection Agency (EPA).

ACTION: Notice.

SUMMARY: The Environmental Protection Agency (EPA or Agency) is announcing the availability of EPA's interim registration review decisions for the following chemicals: Copper 8-quinolinolate, DCNA, and norflurazon.

ADDRESSES: The dockets, identified by the docket identification (ID) number for the specific pesticide of interest provided in table 1 of unit II., are available online at https://www.regulations.gov. Additional information about dockets generally, along with instructions for visiting the docket in-person, is available at https://www.epa.gov/dockets.

FOR FURTHER INFORMATION CONTACT:

For pesticide specific information: The Chemical Review Manager for the pesticide of interest identified in table 1 of unit II.

For general information: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager identified in table 1 of unit II.

II. What action is the Agency taking?

Pursuant to 40 CFR 155.58(c), this notice announces the availability of EPA's interim or final registration review decisions for the pesticides shown in Table 1. The interim and final registration review decisions are supported by rationales included in the docket established for each chemical.

Table 1—Interim and Final Registration Review Decisions Being Issued
Registration review case name and No. | Docket ID No. | Chemical review manager and contact information
Copper 8-Quinolinolate, Case Number 5118 | EPA-HQ-OPP-2010-0454 | Peter Bergquist, bergquist.peter@epa.gov, (202) 566-0648.
DCNA, Case Number 0113 | EPA-HQ-OPP-2016-0141 | Kent Fothergill, fothergill.kent@epa.gov, (202) 566-1943.
Norflurazon, Case Number 0229 | EPA-HQ-OPP-2012-0565 | James Douglass, douglass.james@epa.gov, (202) 566-2343.

III. What is the Agency's authority for taking this action?

EPA is conducting its registration review of the chemicals listed in table 1 of unit II. pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed interim or final registration review decisions for the pesticides in table 1 of unit II.

Prior to completing the interim or final registration review decisions in table 1 of unit II., EPA posted proposed interim decisions or proposed registration review decisions for these chemicals and invited the public to submit any comments or new information, consistent with 40 CFR 155.58(a). EPA considered and responded to any comments or information received during these public comment periods in the respective interim decision or final registration review decisions.

For additional background on the registration review program, see: https://www.epa.gov/pesticide-reevaluation.

Authority: 7 U.S.C. 136 et seq.

Dated: July 9, 2024.
Jean Overstreet,
Director, Pesticide Re-evaluation Division, Office of Pesticide Programs.

[FR Doc. 2024-15476 Filed 7-12-24; 8:45 am]

BILLING CODE 6560-50-P